DEPARTMENT OF LABOR

Occupational Safety and Health Administration

[Docket No. OSHA-2006-0028]

MET Laboratories, Inc.; Application for Expansion of Recognition

AGENCY: Occupational Safety and Health Administration (OSHA), Labor.

ACTION: Notice.

SUMMARY: This notice announces the application of MET Laboratories, Inc., (MET) for expansion of its recognition, and presents the Agency's preliminary finding in favor of granting this request. This preliminary finding does not constitute an interim or temporary approval of this application.

DATES: You must submit information or comments, or any request for extension of the time to comment, by the following dates:

• Hard copy: Postmarked or sent by July 23, 2007.

• Electronic transmission or facsimile: Sent by July 23, 2007.

ADDRESSES: You may submit comments by any of the following methods:

Electronically: You may submit comments and attachments electronically at http://www.regulations.gov, which is the Federal eRulemaking Portal. Follow the instructions online for making electronic submissions.

Fax: If your submissions, including attachments, are not longer than 10 pages, you may fax them to the OSHA Docket Office at (202) 693-1648.

Mail, hand delivery, express mail, messenger, or courier service: You must submit three copies of your comments and attachments to the OSHA Docket Office, Docket No. OSHA-2006-0028 (formerly, NRTL1-88), U.S. Department of Labor, Room N-2625, 200 Constitution Avenue, NW., Washington, DC 20210. Deliveries (hand, express mail, messenger and courier service) are accepted during the Department of Labor's and Docket Office's normal business hours, 8:15 a.m.-4:45 p.m., e.t.

Instructions: All submissions must include the Agency name and the OSHA docket number for this notice (OSHA Docket No. OSHA-2006-0028; formerly, NRTL1-88). Submissions, including any personal information you provide, are placed in the public docket without change and may be made available online at http://www.regulations.gov.

Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office.

Extension of Comment Period: Submit requests for extensions concerning this notice to the Office of Technical Programs and Coordination Activities, NRTL Program, Occupational Safety and Health Administration, U.S. Department of Labor, 200 Constitution Avenue, NW., Room N-3655, Washington, DC 20210. Or, fax to (202) 693-1644.

FOR FURTHER INFORMATION CONTACT: MaryAnn Garrahan, Director, Office of Technical Programs and Coordination Activities, NRTL Program, Occupational Safety and Health Administration, U.S. Department of Labor, 200 Constitution Avenue, NW., Room N3655, Washington, DC 20210, or phone (202) 693-2110. Our Web page includes information about the NRTL Program (see http://www.osha.gov and select “N” in the site index).

SUPPLEMENTARY INFORMATION:

Notice of Application

The Occupational Safety and Health Administration (OSHA) hereby gives notice that MET Laboratories, Inc., (MET) has applied for expansion of its current recognition as a Nationally Recognized Testing Laboratory (NRTL). MET's expansion request covers the use of additional test standards. OSHA's current scope of recognition for MET may be found in the following informational Web page: http://www.osha.gov/dts/otpca/nrtl/met.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to MET's recognition was published on August 17, 2006 (71 FR 47532), which was also a preliminary notice for expansion.

The current address of the MET facility (site) already recognized by OSHA is: MET Laboratories, Inc., 914 West Patapsco Avenue, Baltimore, MD 21230.

General Background on the Application

MET has submitted an application, dated April 25, 2006 (see Exhibit 41-1), to expand its recognition to include 22 additional test standards; however, one standard is already included in MET's scope. The NRTL Program staff has determined that the remaining 21 standards are “appropriate test standards” within the meaning of 29 CFR 1910.7(c). Therefore, OSHA would approve these 21 test standards for the expansion.

MET seeks recognition for testing and certification of products for demonstration of conformance to the following test standards:

ANSI A17.5 Elevator and Escalator Electrical Equipment

UL 250 Household Refrigerators and Freezers

UL 399 Drinking Water Coolers

UL 430 Waste Disposers

UL 474 Dehumidifiers

UL 498A Current Taps and Adapters

UL 563 Ice Makers

UL 749 Household Dishwashers

UL 826 Household Electric Clocks

UL 858 Household Electric Ranges

UL 998 Humidifiers

UL 1005 Electric Flatirons

UL 1082 Household Electric Coffee Makers and Brewing-Type Appliances

UL 1086 Household Trash Compactors

UL 1261 Electric Water Heaters for Pools and Tubs

UL 1640 Portable Power-Distribution Equipment

UL 1741 Inverters, Converters, Controllers and Interconnection System Equipment for Use With Distributed Energy Resources

UL 1994 Luminous Egress Path Marking Systems

UL 2157 Electric Clothes Washing Machines and Extractors

UL 2158 Electric Clothes Dryers

UL 60335-2-8 Household and Similar Electrical Appliances, Part 2: Particular Requirements for Shavers, Hair Clippers, and Similar Appliances

The designations and titles of the above test standards were current at the time of the preparation of this notice.

OSHA's recognition of MET, or any NRTL, for a particular test standard is limited to equipment or materials (i.e., products) for which OSHA standards require third-party testing and certification before use in the workplace. Consequently, if a test standard also covers any product(s) for which OSHA does not require such testing and certification, an NRTL's scope of recognition does not include that product(s).

A test standard listed above may also be approved as an American National Standard by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Preliminary Finding on the Application

MET has submitted an acceptable request for expansion of its recognition as an NRTL. In connection with this request, OSHA did not perform an on-site review of MET's NRTL testing facilities. However, NRTL Program assessment staff reviewed information pertinent to the request and recommended that MET's recognition be expanded to include the additional test standards listed above (see Exhibit 41-2). Our review of the application file, the assessor's recommendation, and other pertinent documents indicate that MET can meet the requirements, as prescribed by 29 CFR 1910.7, for expansion of its scope to include the additional test standards listed above. This preliminary finding does not constitute an interim or temporary approval of the application.

OSHA welcomes public comments, in sufficient detail, as to whether MET has met the requirements of 29 CFR 1910.7 for expansion of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of MET's requests, the assessor's recommendation, other pertinent documents, and all submitted comments, as received, by contacting the Docket Office, Room N-2625, Occupational Safety and Health Administration, U.S. Department of Labor, at the above address. Docket No. OSHA-2006-0028 (formerly, NRTL1-88) contains all materials in the record concerning MET's application.

The NRTL Program staff will review all timely comments and, after resolution of issues raised by these comments, will recommend whether to grant MET's expansion request. The Assistant Secretary will make the final decision on granting the expansion and, in making this decision, may undertake other proceedings that are prescribed in Appendix A to 29 CFR 1910.7. OSHA will publish a public notice of this final decision in the Federal Register.

Signed at Washington, DC, this 25th day of June, 2007.
Edwin G. Foulke, Jr.,
Assistant Secretary for Occupational Safety and Health.

[FR Doc. E7-13106 Filed 7-5-07; 8:45 am]

BILLING CODE 4510-26-P